Proclamation 10332 of December 30, 2021

National Mentoring Month, 2022

By the President of the United States of America

A Proclamation

I often say that America can be defined in one word—possibilities. No matter our background or circumstance, every child in America has the right to go as far as their dreams will take them. But those dreams are rarely reached alone. We all benefit from the support, wisdom, and nurturing of mentors who navigated the path before us.

By standing on the shoulders of mentors, young people have led America forward at each inflection point in our history. I will never forget the many mentors who encouraged and empowered me as a student, as a local elected official in my twenties, and as a young United States Senator finding my way. During National Mentoring Month, we honor all those parents and family members, teachers and coaches, employers and co-workers, community and faith leaders, and so many others who devote time, care, and energy to helping our young people thrive.

As we continue to build back from the pandemic, my Administration is making unprecedented investments to set the next generation up for success. Earlier this year, the Department of Labor awarded $89 million through its YouthBuild program and over $20 million through its Workforce Pathways for Youth programs to dedicated mentors who share their wisdom and experience and provide employment and counseling services to young people. We also proudly support initiatives across our executive departments and agencies that provide tutoring, community service opportunities, school-based and after-school programs, summer learning and enrichment, and work-based learning opportunities.

As advocate and activist Marian Wright Edelman said, “It is the responsibility of every adult—especially parents, educators, and religious leaders—to make sure that children hear what we have learned from the lessons of life and to hear over and over that we love them and that they are not alone.” Mentorship is vital to fulfilling this responsibility, expanding opportunity, and helping our children fulfill their God-given potential.

NOW, THEREFORE, I, JOSEPH R. BIDEN JR., President of the United States of America, by virtue of the authority vested in me by the Constitution and the laws of the United States, do hereby proclaim January 2022 as National Mentoring Month. I call upon Americans across the country to observe this month with mentoring, appropriate ceremonies, activities, and programs.

IN WITNESS WHEREOF, I have hereunto set my hand this thirtieth day of December, in the year of our Lord two thousand twenty-one, and of the Independence of the United States of America the two hundred and forty-sixth.

[FR Doc. 2022-00167

Filed 1-5-22; 11:15 am]

Billing code 3395-F2-P